NUCLEAR REGULATORY COMMISSION

[Docket Nos. 52-027 and 52-028; NRC-2008-0441]

South Carolina Electric & Gas Company, South Carolina Public Service Authority; Virgil C. Summer Nuclear Station, Units 2 and 3, Inspections, Tests, Analyses, and Acceptance Criteria

AGENCY: Nuclear Regulatory Commission.

ACTION: Determination of the successful completion of inspections, tests, and analyses.

SUMMARY: The U.S. Nuclear Regulatory Commission (NRC) has determined that the inspections, tests, and analyses have been successfully completed, and that the specified acceptance criteria are met for the Virgil C. Summer Nuclear Station (VCSNS), Units 2 and 3.

DATES: The determination of the successful completion of inspections, tests, and analyses for VCSNS Units 2 and 3 is effective July 27, 2017.

ADDRESSES: Please refer to Docket ID NRC-2008-0441 when contacting the NRC about the availability of information regarding this document. You may obtain publicly-available information related to this document using any of the following methods:

• Federal Rulemaking Web site: Go to http://www.regulations.gov and search for Docket ID NRC-2008-0441. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Billy Gleaves, Office of New Reactors, U.S. Nuclear Regulatory Commission, Washington, DC 20555-0001; telephone: 301-415-5848; email: Bill.Gleaves@nrc.gov.

SUPPLEMENTARY INFORMATION:

I. Licensee Notification of Completion of ITAAC

South Carolina Electric & Gas (SCE&G), on behalf of itself and the South Carolina Public Service Authority, (both hereafter called the licensee) has submitted inspections, tests, analyses, and acceptance criteria (ITAAC) closure notifications (ICNs) under § 52.99(c)(1) of title 10 of the Code of Federal Regulations (10 CFR), informing the NRC that the licensee has successfully performed the required inspections, tests, and analyses, and that the acceptance criteria are met for:

VCSNS, Unit 2 ITAAC

2.1.02.08d.vii (38), 2.2.01.06d.i (105), 2.5.02.07b (535), 2.5.02.07e (538), 3.2.00.01a (739), 3.2.00.01b (740), and 3.2.00.01c.i (741)

VCSNS, Unit 3 ITAAC

2.2.01.06d.i (105), 2.5.02.07b (535), 2.5.02.07e (538), 3.2.00.01a (739), 3.2.00.01b (740), and 3.2.00.01c.i (741)

The ITAAC for VCSNS, Unit 2 are in Appendix C of the VCSNS, Unit 2 combined license (ADAMS Accession No. ML14100A092). The ITAAC for VCSNS, Unit 3 are in Appendix C of VCSNS, Unit 3 combined license (ADAMS Accession No. ML14100A101).

II. NRC Staff Determination of Completion of ITAAC

The NRC staff has determined that the specified inspections, tests, and analyses have been successfully completed, and that the specified acceptance criteria are met. The documentation of the NRC staff's determination is in the ITAAC Closure Verification Evaluation Form (VEF) for each ITAAC. The VEF is a form that represents the NRC staff's structured process for reviewing ICNs. Each ICN presents a narrative description of how the ITAAC was completed. The NRC's ICN review process involves a determination on whether, among other things: (1) Each ICN provides sufficient information, including a summary of the methodology used to perform the ITAAC, to demonstrate that the inspections, tests, and analyses have been successfully completed; (2) each ICN provides sufficient information to demonstrate that the acceptance criteria of the ITAAC are met; and (3) any NRC inspections for the ITAAC have been completed and any ITAAC findings associated with that ITAAC have been closed.

The NRC staff's determination of the successful completion of these ITAAC is based on information available at this time and is subject to the licensee's ability to maintain the condition that the acceptance criteria are met. If the NRC staff receives new information that suggests the NRC staff's determination on any of these ITAAC is incorrect, then the NRC staff will determine whether to reopen that ITAAC (including withdrawing the NRC staff's determination on that ITAAC). The NRC staff's determination will be used to support a subsequent finding, pursuant to 10 CFR 52.103(g), at the end of construction that all acceptance criteria in the combined license are met. The ITAAC closure process is not finalized for these ITAAC until the NRC makes an affirmative finding under 10 CFR 52.103(g). Any future updates to the status of these ITAAC will be reflected on the NRC's Web site at http://www.nrc.gov/reactors/new-reactors/oversight/itaac.html.

This notice fulfills the NRC staff's obligations under 10 CFR 52.99(e)(1) to publish a notice in the Federal Register of the NRC staff's determination of the successful completion of inspections, tests and analyses.

Virgil C. Summer Nuclear Station Unit 2, Docket No. 5200027

A complete list of the review status for VCSNS, Unit 2 ITAAC, including the submission date and ADAMS Accession Number for each ICN received, the ADAMS Accession Number for each VEF, and the ADAMS Accession Numbers for the inspection reports associated with these specific ITAAC, can be found on the NRC's Web site at http://www.nrc.gov/reactors/new-reactors/new-licensing-files/sum2-icnsr.pdf.

Virgil C. Summer Nuclear Station Unit 3, Docket No. 5200028

A complete list of the review status for VCSNS, Unit 3 ITAAC, including the submission date and ADAMS Accession Number for each ICN received, the ADAMS Accession Number for each VEF, and the ADAMS Accession Numbers for the inspection reports associated with these specific ITAAC, can be found on the NRC's Web site at http://www.nrc.gov/reactors/new-reactors/new-licensing-files/sum3-icnsr.pdf.

Dated at Rockville, Maryland, this 18th day of July 2017.
For the Nuclear Regulatory Commission.
Jennifer Dixon-Herrity,
Chief, Licensing Branch 4, Division of New Reactor Licensing, Office of New Reactors.

[FR Doc. 2017-15753 Filed 7-26-17; 8:45 am]

BILLING CODE 7590-01-P